POSTAL REGULATORY COMMISSION

[Docket No. CP2014-9; Order No. 1999]

Amendment to Postal Product

AGENCY: Postal Regulatory Commission.

ACTION: Notice.

SUMMARY: The Commission is noticing a recent Postal Service filing requesting an amendment to Priority Mail Contract 70. This notice informs the public of the filing, invites public comment, and takes other administrative steps.

DATES: Comments are due: March 7, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Brian Corcoran, Acting General Counsel, at 202-789-6820.

SUPPLEMENTARY INFORMATION:

Table of Contents

I. Introduction

II. Notice of Filings

III. Ordering Paragraphs

I. Introduction

On February 25, 2014, the Postal Service filed notice that it has agreed to an amendment to the existing Priority Mail Contract 70 subject to this docket (Amendment).¹ The Postal Service includes two attachments in support of its Notice:

¹ Notice of United States Postal Service of Change in Prices Pursuant to Amendment to Priority Mail Contract 70, February 25, 2014 (Notice).

• Attachment A—a redacted copy of the Amendment to the existing Priority Mail Contract 70.

• Attachment B—certified statement of compliance with 39 U.S.C. 3633(a).

The Postal Service also filed the supporting financial documentation and the unredacted Amendment under seal. Notice at 1. The Postal Service seeks to incorporate by reference the Application for Non-Public Treatment originally filed in this docket for the protection of customer-identifying information that it has filed under seal. Id.

The Amendment broadens the application of the contract to include prices for Priority Mail packages having weights and sizes different than those described in the original contract.² The Amendment is scheduled to take effect one business day following the day on which the Commission issues all necessary regulatory approval. Notice, Attachment A at 1.

² Compare id., Attachment A at 1-2 (filed under seal) with Docket Nos. MC2014-8 and CP2014-9, Request of the United States Postal Service to Add Priority Mail Contract 70 to Competitive Product List and Notice of Filing (Under Seal) of Unredacted Governors' Decision, Contract, and Supporting Data, November 19, 2013, Attachment B at 1-2 (filed under seal).

II. Notice of Filings

Interested persons may submit comments on whether the changes presented in the Postal Service's Notice are consistent with the policies of 39 U.S.C. 3632, 3633, or 3642, 39 CFR 3015.5, and 39 CFR Part 3020, subpart B. Comments are due no later than March 7, 2014. The public portions of these filings can be accessed via the Commission's Web site (http://www.prc.gov).

The Commission appoints Lyudmila Y. Bzhilyanskaya to serve as Public Representative in this docket.

III. Ordering Paragraphs

It is ordered:

1. The Commission reopens Docket No. CP2014-9 for consideration of matters raised by the Postal Service's Notice.

2. Pursuant to 39 U.S.C. 505, Lyudmila Y. Bzhilyanskaya is appointed to serve as an officer of the Commission to represent the interests of the general public in these proceedings (Public Representative).

3. Comments are due no later than March 7, 2014.

4. The Secretary shall arrange for publication of this order in the Federal Register.

By the Commission.
Shoshana M. Grove,
Secretary.

[FR Doc. 2014-04960 Filed 3-6-14; 8:45 am]

BILLING CODE 7710-FW-P